DEPARTMENT OF HEALTH AND HUMAN SERVICES

Food and Drug Administration

[Docket No. FDA-2009-N-0664]

Blood Products Advisory Committee; Notice of Meeting

AGENCY: Food and Drug Administration, HHS.

ACTION: Notice.

This notice announces a forthcoming meeting of a public advisory committee of the Food and Drug Administration (FDA). At least one portion of the meeting will be closed to the public.

Name of Committee: Blood Products Advisory Committee.

General Function of the Committee: To provide advice and recommendations to the agency on FDA's regulatory issues.

Date and Time: The meeting will be held on November 16, 2009, from 8 a.m. to 5:30 p.m. and on November 17, 2009, from 8 a.m. to 5 p.m.

Location: Bethesda Marriott Hotel, 5151 Pooks Hill Rd., Bethesda, MD 20814.

Contact Person: William Freas or Pearline K. Muckelvene, Center for Biologics Evaluation and Research (CBER), Food and Drug Administration, 1401 Rockville Pike (HFM-71), Rockville, MD 20852, 301-827-0314, or FDA Advisory Committee Information Line, 1-800-741-8138 (301-443-0572 in the Washington, DC area), code 3014519516. Please call the Information Line for up-to-date information on this meeting. A notice in the Federal Register about last minute modifications that impact a previously announced advisory committee meeting cannot always be published quickly enough to provide timely notice. Therefore, you should always check the agency's Web site and call the appropriate advisory committee hot line/phone line to learn about possible modifications before coming to the meeting.

Agenda: On November 16, 2009, in the morning the Committee will hear updates on the following topics: the HHS Advisory Committee on Blood Safety and Availability, Dengue virus outbreak, and 2009 A/H1N1 Pandemic and the impact on blood safety and availability. The Committee will then discuss blood donor deferral for malaria risk associated with travel to Mexico. In the afternoon the Committee will discuss the design of a new phase III study of pathogen inactivation of human platelets using the Cerus, INTERCEPT Blood System. On November 17, 2009, in the morning the Committee will discuss blood pressure and pulse as blood donor eligibility criteria, and in the afternoon the committee will discuss the public health need and performance characteristics of over-the-counter home-use HIV test kits.

FDA intends to make background material available to the public no later than 2 business days before the meeting. If FDA is unable to post the background material on its Web site prior to the meeting, the background material will be made publicly available at the location of the advisory committee meeting, and the background material will be posted on FDA's Web site after the meeting. Background material is available at http://www.fda.gov/AdvisoryCommittees/Calendar/default.htm. Scroll down to the appropriate advisory committee link.

Procedure: On November 16, 2009, from 8 a.m. to 5:30 p.m. and on November 17, 2009, from 8 a.m. to 3:15 p.m., the meeting is open to the public. Interested persons may present data, information, or views, orally or in writing, on issues pending before the committee. Written submissions may be made to the contact person on or before November 9, 2009. Oral presentations from the public will be scheduled between approximately 11 a.m. and 11:30 a.m. and between 4 p.m. and 4:30 p.m. on November 16, 2009, and between approximately 10:30 a.m. and 11 a.m., and 2:15 and 2:45 p.m. on November 17, 2009. Those desiring to make formal oral presentations should notify the contact person and submit a brief statement of the general nature of the evidence or arguments they wish to present, the names and addresses of proposed participants, and an indication of the approximate time requested to make their presentation on or before October 30, 2009. Time allotted for each presentation may be limited. If the number of registrants requesting to speak is greater than can be reasonably accommodated during the scheduled open public hearing session, FDA may conduct a lottery to determine the speakers for the scheduled open public hearing session. The contact person will notify interested persons regarding their request to speak by November 2, 2009.

Closed Committee Deliberations : On November 17, 2009, from approximately 3 p.m. until 5 p.m., the meeting will be closed to permit discussion and review of trade secret and/or confidential commercial information (5 U.S.C. 552b(c)(4)). The committee will hear presentations and discuss sponsor, trade secret and confidential information.

Persons attending FDA's advisory committee meetings are advised that the agency is not responsible for providing access to electrical outlets.

FDA welcomes the attendance of the public at its advisory committee meetings and will make every effort to accommodate persons with physical disabilities or special needs. If you require special accommodations due to a disability, please contact William Freas or Pearline K. Muckelvene at least 7 days in advance of the meeting.

FDA is committed to the orderly conduct of its advisory committee meetings. Please visit our Web site at http://www.fda.gov/AdvisoryCommittees/AboutAdvisoryCommittees/ucm111462.htm for procedures on public conduct during advisory committee meetings.

Notice of this meeting is given under the Federal Advisory Committee Act (5 U.S.C. app. 2).

Dated: September 23, 2009.
David Horowitz,
Assistant Commissioner for Policy.

[FR Doc. E9-23434 Filed 9-28-09; 8:45 am]

BILLING CODE 4160-01-S